DEPARTMENT OF THE INTERIOR

Fish and Wildlife Service

Final Comprehensive Conservation Plan/Environmental Impact Statement for the Sweetwater Marsh and South San Diego Bay Units of the San Diego Bay National Wildlife Refuge

AGENCY: Fish and Wildlife Service, Interior.

ACTION: Notice of availability.

SUMMARY: The U.S. Fish and Wildlife Service (Service) announces that a Final Comprehensive Conservation Plan/Environmental Impact Statement (Final CCP/EIS) for the Sweetwater Marsh and South San Diego Bay Units of the San Diego Bay National Wildlife Refuge is available for review. This Final CCP/EIS has been prepared pursuant to the National Environmental Policy Act of 1969 and is designed to address the Service's obligation under the National Wildlife Refuge System Administration Act of 1966, as amended by the National Wildlife Refuge System Improvement Act of 1997. The Final CCP/EIS describes the Service's proposal for managing these Refuge Units over the next 15 years.

DATES: A Record of Decision may be signed no sooner than 30 days after the publication of this notice (40 CFR 1506.10(b)(2)).

ADDRESSES: A copy of the Final CCP/EIS, including Appendix P (Responses to Comments) is available on compact disk or in hard copy by writing to: Victoria Touchstone, Refuge Planner, San Diego National Wildlife Refuge Complex, 6010 Hidden Valley Road, Carlsbad, CA 92011 or by e-mailing Victoria_Touchstone@fws.gov. You may also access or download copies of the Final CCP/EIS and associated Appendices at the following Web site address: http://sandiegorefuges.fws.gov. Hard copies of the Final CCP/EIS are also available for viewing at the following locations:

• San Diego National Wildlife Refuge Complex, 6010 Hidden Valley Road, Carlsbad, CA;

• Tijuana Estuary Visitor Center, 301 Caspian Way, Imperial Beach, CA;

• Chula Vista Public Library, Civic Center Branch, 365 F Street, Chula Vista, CA and South Chula Vista Branch, 389 Orange Avenue, Chula Vista, CA;

• Coronado Public Library, 640 Orange Avenue, Coronado, CA;

• Imperial Beach Library, 810 Imperial Beach Boulevard, Imperial Beach, CA;

• National City Library, 200 East 12th Street, National City, CA; and

• City of San Diego, Central Library, Government Publications, 820 E Street and the Otay Mesa Branch Library, 3003 Coronado Avenue, San Diego, CA.

FOR MORE INFORMATION CONTACT: Victoria Touchstone, Refuge Planner, at the above street and e-mail address, or via telephone at (760) 431-9440 extension 349, or by fax at (760) 930-0256.

SUPPLEMENTARY INFORMATION: The National Wildlife Refuge System Administration Act of 1966, as amended by the National Wildlife Refuge System Improvement Act of 1997 (16 U.S.C. 668dd-668ee et seq.) requires the Service to develop a Comprehensive Conservation Plan (CCP) for each National Wildlife Refuge. The purpose for developing a CCP is to provide refuge managers with a 15-year strategy for achieving refuge purposes and contributing toward the mission of the National Wildlife Refuge System (Refuge System), consistent with sound principles of fish and wildlife science, conservation, legal mandates, and Service policies. In addition to outlining broad management direction for conserving wildlife and their habitats, the CCPs identify wildlife-dependent recreational opportunities available to the public, including opportunities for hunting, fishing, wildlife observation and photography, and environmental education and interpretation. The National Wildlife Refuge System Administration Act of 1966, as amended by the National Wildlife Refuge System Improvement Act of 1997, requires the Service to review and update these CCPs at least every 15 years. Revisions to the CCP will be prepared in accordance with the National Environmental Policy Act of 1969 (42 U.S.C. 4321-4370d).

The San Diego Bay National Wildlife Refuge is located approximately 10 miles north of the United States-Mexico border in southwestern San Diego County, California. Collectively, the two Refuge Units encompass approximately 2,620 acres of land and water in and around the south end of San Diego Bay. The coastal wetlands protected within this Refuge annually provide essential foraging and resting habitat for tens of thousands of migratory shorebirds and wintering waterfowl traveling along the Pacific Flyway.

The Sweetwater Marsh Unit was established as a National Wildlife Refuge in 1988. Encompassing approximately 316 acres, this Refuge was established to protect federally listed endangered and threatened species. The coastal salt marsh and upland areas within the Sweetwater Marsh Unit support 6 federally listed species, including 3 listed birds that nest within the Unit, 1 State-listed endangered species, and 26 species of birds identified by the Service as Birds of Conservation Concern.

The South San Diego Bay Unit was established in 1999 as a unit of the San Diego National Wildlife Refuge for the purpose of protecting, managing, and restoring habitats for federally listed endangered and threatened species and migratory birds. The Service currently manages approximately 2,300 acres of the 3,940 acres included within the Unit's approved acquisition boundary. The majority of this management area is leased to the Service by the California State Lands Commission. Included within this Unit is the largest remaining expanse of intertidal mudflats in San Diego Bay. This and other habitats within the Unit support 5 federally listed endangered and threatened species, 1 State-listed endangered species, and 19 species of birds identified by the Service as Birds of Conservation Concern. Open water is the dominant habitat, followed by intertidal mudflats, disturbed uplands, salt marsh, and freshwater wetlands. The Unit includes an active commercial solar salt operation that is managed under a Special Use Permit. The salt pond levees provide important nesting habitat for a variety of colonial nesting seabirds, and the brine invertebrates present in some ponds provide foraging habitat for various migratory birds, including phalaropes and eared grebes.

The proposed action is to adopt and implement a CCP that best achieves the purposes for which the Refuge was established, furthers its vision and goals, contributes to the mission of the National Wildlife Refuge System, addresses significant issues and applicable mandates, and is consistent with the principles of sound fish and wildlife management. Implementing the CCP will enable the Refuge to fulfill its role in the conservation and management of fish and wildlife resources within the Pacific Flyway, including the conservation of important coastal wetlands, and to provide refuge visitors with opportunities to enjoy the Refuge's resources through high-quality opportunities for wildlife observation, environmental education, and environmental interpretation. A Predator Management Plan, prepared pursuant to the Service's endangered species management responsibilities, is also included in the CCP/EIS as a step-down plan. The predator management plan, which benefits the Federally listed endangered California least tern and light-footed clapper rail and the threatened western snowy plover, has been developed as a comprehensive wildlife damage control program that addresses a range of management actions from vegetation control and nesting habitat enhancement to non-lethal and lethal control of both mammalian and avian predators. Under this plan, the most effective, selective, and humane techniques available to deter or remove individual predators or species would be implemented.

This CCP will also satisfy a condition of the Public Agency Lease between the California State Lands Commission and the Service, requiring management and public access plans for the South San Diego Bay Unit, as well as fulfill the Service's obligation described in a Cooperative Agreement between the Service and the Unified Port of San Diego to prepare “a holistic habitat restoration plan” for a 1,035-acre portion of the existing salt ponds within the South San Diego Bay Unit.

The Service analyzed various alternatives for future management of the Refuge, including three alternatives for the Sweetwater Marsh Unit and four alternatives for the South San Diego Bay Unit. Sweetwater Marsh Unit, Alternative C, and South San Diego Bay Unit, Alternative D, have been identified as the Service's preferred alternatives.

Alternative C for the Sweetwater Marsh Unit would improve habitat quality and restore intertidal and upland habitats to support six Federally listed species, along with the Refuge's other plant and animal resources. The existing trail system on Gunpowder Point would be redesigned and new interpretive elements would be provided to better complement the existing environmental education programs supported by the Refuge.

Alternative D for the South San Diego Bay Unit would enhance nesting opportunities in and around the salt ponds for the California least tern, western snowy plover, and various other colonial seabirds; restore to native coastal habitats up to 410 acres of previous agricultural land in the Otay River floodplain; restore 650 acres of commercial solar salt ponds to tidal influence to support intertidal mudflat and coastal salt marsh habitats; and manage the water and salinity levels in an additional 275 acres of salt ponds. Opportunities for wildlife observation, photography, and environmental interpretation would be expanded; a pedestrian pathway would be constructed along the southern end of the Refuge to improve wildlife observation opportunities for Refuge visitors; and the other public uses (i.e., fishing, environmental education, and boating) currently provided on the Refuge would be maintained.

The following substantive changes were made between the Draft and Final CCP/EIS:

1. We revised Appendix D (CCP Implementation) to clarify the phasing plan for restoration of the salt ponds under scenario 2 and to more clearly describe the step-down planning process for future restoration and enhancement proposals on the South San Diego Bay Unit.

2. We expanded the biological resources information provided in Chapter 3, Affected Environment, to address comments received during public review.

Public comments were requested, considered, and incorporated throughout the planning process. Public outreach included public meetings and workshops, planning update mailings, and Federal Register notices. Three previous notices were published in the Federal Register concerning the development of this CCP (65 FR 39172, June 23, 2000; 67 FR 19583, April 22, 2002; 70 FR 42359, July 22, 2005). During the public review and comment period for the Draft CCP/EIS, which occurred from July 22 to September 19, 2005, the Service received 38 written comments and four verbal comments. All substantive issues raised in these comments have been addressed through changes incorporated in the Final CCP/EIS and/or through responses to the comments, which are included in Appendix P, Responses to Comments, of the Final CCP/EIS.

Dated: August 11, 2006.
Ken McDermond,
Acting Manager, California/Nevada Operations, Sacramento, California.

[FR Doc. E6-13556 Filed 8-17-06; 8:45 am]

BILLING CODE 4310-55-P